DEPARTMENT OF THE INTERIOR

Bureau of Land Management

[WO-320-1990-PB-02 24 1A]

OMB Approval Number 1004-0176; Information Collection Submitted to the Office of Management and Budget for Review Under the Paperwork Reduction Act

The Bureau of Land Management (BLM) has submitted the proposed collection of information listed below to the Office of Management and Budget (OMB) for approval under the Provisions of the Paperwork Reduction Act of 1995, 44 U.S.C. 3510 et seq. On October 19, 1999, BLM published a notice in the Federal Register at 64 FR 56360 requesting comments on this collection. The comment period ended on December 20, 1999. One comment was received in response to that notice. The comment contained information supporting an increase in BLM's burden estimate for certain notices and plans required by the information collection. You may obtain copies of the proposed collection of information and related forms and explanatory material by contacting the BLM Clearance Officer at the telephone number listed below.

OMB is required to respond within 60 days but may respond after 30 days. For maximum consideration your comments and suggestions on the requirements should be made within 30 days directly to the Office of Management and Budget, Interior Department Desk Officer (1004-0176), Office of Information and Regulatory Affairs, Washington, DC 20503. Please provide a copy of your comments to the BLM Information Clearance Officer (WO-630), 1849 C St., NW, Mail Stop 401 LS, Washington, DC 20240.

Nature of Comments

We specifically request your comments on the following:

1. Whether the collection of information is necessary for the proper functioning of BLM, including whether the information will have practical utility;

2. The accuracy of BLM's estimate of the burden associated with collecting the information, including the validity of the methodology and assumptions used;

3. The quality, utility and clarity of the information to be collected; and

4. How to minimize the burden of collecting the information on those who are to respond, including the use of appropriate automated electronic, mechanical, and other forms of information technology.

Title: Surface Management Activities Under the General Mining Law, Regulations at 43 CFR 3802 and 3809.

OMB Approval Number: 1004-0176.

Abstract: BLM requests an extension of OMB approval to collect certain information from mining claimants and operators who want to prospect, explore, mine and reclaim lands subject to the General Mining Law. This information is contained in the surface management regulations at 43 CFR 3802 and 3809 and three bond forms, Surface Management Surety Bond Form (BLM 3809-1), Surface Management Personal Bond Form (BLM 3809-2), and Generalized Bond Rider Form (BLM 3809-4).

The information requested is associated with filing notices of intent to conduct mining operations, where 5 acres or less of land will be disturbed in any calendar year, and plans of operation, in which exploration and mining activities will disturb more than 5 acres of land in any given year. Information associated with notices includes names and mailing addresses of operators and owners; the serial numbers of all mining claims, mill sites, and tunnel sites; maps showing the location of surface disturbances; and a description of the proposed operation, showing how the operator would conduct the activities. Generally, the greater the surface disturbance, the more detail is required. A full-blown plan of operations would contain descriptions of all proposed and existing access routes, aircraft landing areas, and other means of access; of how the operator will prevent unnecessary and undue degradation of the land; of how the operator will reclaim the areas disturbed by mining activities; and of measures to be taken to maintain the area in a safe and clean manner and to reclaim the land to avoid erosion and other adverse impacts.

BLM has re-examined its hour burden estimates in response to the public comment received on this collection and in response to six comments on a related information collection for the proposed surface management regulations at 43 CFR 3809 (64 FR 6422, February 9, 1999) and changed the burden estimates accordingly.

Bureau Form Numbers: Surface Management Surety Bond Form (BLM Form 3809-1) Surface Management Personal Bond Form (BLM Form 3809-2), and Surface Management Generalized Bond Rider Form (BLM Form 3809-4).

Frequency: On occasion, as applied for or reported.

Description of Respondents: Respondents are claimants and operators who want to prospect, explore, mine or reclaim locatable mineral on public lands.

Estimated Completion Times:

(1) Notices of intent—600 per year, as follows: 390 at 24 hours each for exploration activities; 120 at 40 hours each for placer operations; 90 at 40 hours each for all others;

Total annual burden—17,700 hours.

(2) Plans of operation—150 per year, as follows: 52 for exploration activities 24 hours each for exploration activities; 49 for placer/strip mining at 80 hours each; and 49 for open pit mining at 240 hours each.

Total annual burden—53,100 hours.

(3) Compliance with the National Environmental Policy Act (NEPA) Plans of operations—EA's for 52 mines conducting exploration activities at 320 hours each; EA's for 93 mines conducting mining activities at 64 hours each; EIS's for 5 mines conducting mining activities at 2480 hours each.

Total annual burden—88,560 hours.

(4) Complying with Requirements of the National Historic Preservation Act Plans of operations—150 plans at 30 hours each per cultural survey.

Total annual burden—450 hours.

(5) Forms: 8 minutes per form for all forms.

Total annual burden—22 hours.

Annual responses: 750 (1 per respondent per year).

Annual burden hours: 125,808 hours.

Collection Clearance Officer: Carole Smith, (202) 452-0367.

Dated: March 28, 2000.
Carole Smith,
BLM Clearance Officer.

[FR Doc. 00-8303 Filed 4-4-00; 8:45 am]

BILLING CODE 4310-84-M